DEPARTMENT OF ENERGY

Federal Energy Regulatory Commission

Combined Notice of Filings #1

Take notice that the Commission received the following electric corporate filings:

Docket Numbers: EC14-52-000.

Applicants: Lakeswind Power Partners, LLC, Union Bank of California Leasing, Inc.

Description: Supplement to February 3, 2014 Section 203 Application of Lakeswind Power Partners, LLC, et al.

Filed Date: 2/11/14.

Accession Number: 20140211-5132.

Comments Due: 5 p.m. ET 2/24/14.

Take notice that the Commission received the following electric rate filings:

Docket Numbers: ER14-950-000.

Applicants: Great Bay Energy VI, LLC.

Description: Amendment to January 3, 2014 Great Bay Energy VI, LLC tariff filing under ER14-950.

Filed Date: 2/11/14.

Accession Number: 20140211-5134.

Comments Due: 5 p.m. ET 2/21/14.

Docket Numbers: ER14-1222-001.

Applicants: PJM Interconnection, L.L.C.

Description: Errata to Correct Notice of Cancellation for SA No. 3238 (metadata) to be effective 12/31/2013.

Filed Date: 2/11/14.

Accession Number: 20140211-5115.

Comments Due: 5 p.m. ET 3/4/14.

Docket Numbers: ER14-1309-000.

Applicants: Singer Energy Group, LLC.

Description: Singer Energy Group, LLC Market Based Rate Tariff to be effective 3/15/2014.

Filed Date: 2/11/14.

Accession Number: 20140211-5107.

Comments Due: 5 p.m. ET 3/4/14.

Docket Numbers: ER14-1310-000.

Applicants: Southern California Edison Company.

Description: SGIA & Distribution Service Agreement with Victor Dry Farm Ranch A LLC to be effective 2/13/2014.

Filed Date: 2/12/14.

Accession Number: 20140212-5005.

Comments Due: 5 p.m. ET 3/5/14.

Docket Numbers: ER14-1311-000.

Applicants: ISO New England Inc., New England Power Pool Participants Committee.

Description: Annual Submission by FTR Cust of Risk Managment Pol Pro and Cont to be effective 4/15/2014.

Filed Date: 2/12/14.

Accession Number: 20140212-5009.

Comments Due: 5 p.m. ET 3/5/14.

Docket Numbers: ER14-1312-000.

Applicants: Bicent (California) Malburg LLC.

Description: First Revised MBR Tariff to be effective 2/13/2014.

Filed Date: 2/12/14.

Accession Number: 20140212-5023.

Comments Due: 5 p.m. ET 3/5/14.

Docket Numbers: ER14-1313-000.

Applicants: Sempra Generation, LLC.

Description: Sempra Generation, LLC. MBR Tariff Revision to be effective 3/1/2014.

Filed Date: 2/12/14.

Accession Number: 20140212-5055.

Comments Due: 5 p.m. ET 3/5/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 12, 2014.
Nathaniel J. Davis, Sr.,
Deputy Secretary.

[FR Doc. 2014-03841 Filed 2-21-14; 8:45 am]

BILLING CODE 6717-01-P